DEPARTMENT OF TRANSPORTATION

Federal Aviation Administration

14 CFR Part 39

[Docket No. FAA-2021-1075; Project Identifier MCAI-2021-00856-T; Amendment 39-22077; AD 2022-12-05]

RIN 2120-AA64

Airworthiness Directives; Airbus SAS Airplanes

AGENCY: Federal Aviation Administration (FAA), Department of Transportation (DOT).

ACTION: Final rule.

SUMMARY: The FAA is superseding Airworthiness Directive (AD) 2020-26-01, which applied to all Airbus SAS Model A318-111, -112, -121, and -122 airplanes; Model A319-111, -112, -113, -114, -115, -131, -132, and -133 airplanes; and Model A320-211, -212, -214, -216, -231, -232, and -233 airplanes. AD 2020-26-01 required repetitive general visual inspections of the affected main landing gear (MLG) sliding tubes for cracks, and replacement if necessary. This AD was prompted by reports of cracks found on MLG sliding tubes that may have been subject to improperly performed magnetic particle inspection. This AD requires repetitive general visual inspections of the affected MLG sliding tubes (both retained affected parts and additional affected parts) for cracks, and replacement if necessary, as specified in a European Union Aviation Safety Agency (EASA) AD, which is incorporated by reference. This AD also adds airplanes to the applicability. The FAA is issuing this AD to address the unsafe condition on these products.

DATES: This AD is effective September 2, 2022.

The Director of the Federal Register approved the incorporation by reference of a certain publication listed in this AD as of September 2, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at www.regulations.gov by searching for and locating Docket No. FAA-2021-1075.

Examining the AD Docket

You may examine the AD docket at www.regulations.gov by searching for and locating Docket No. FAA-2021-1075; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, FAA, International Validation Branch, 2200 South 216th St., Des Moines, WA 98198; telephone and fax 206-231-3229; email vladimir.ulyanov@faa.gov.

SUPPLEMENTARY INFORMATION:

Background

EASA, which is the Technical Agent for the Member States of the European Union, has issued EASA AD 2021-0175, dated July 22, 2021; corrected July 23, 2021 (EASA AD 2021-0175) (also referred to as the MCAI), to correct an unsafe condition for all Airbus SAS Model A318-111, A318-112, A318-121, A318-122, A319-111, A319-112, A319-113, A319-114, A319-115, A319-131, A319-132, A319-133, A320-211, A320-212, A320-214, A320-215, A320-216, A320-231, A320-232, A320-233, A321-111, A321-112, A321-131, A321-211, A321-212, A321-213, A321-231, and A321-232 airplanes. Model A320-215 airplanes are not certificated by the FAA and are not included on the U.S. type certificate data sheet; this AD therefore does not include those airplanes in the applicability.

The FAA issued a notice of proposed rulemaking (NPRM) to amend 14 CFR part 39 to supersede AD 2020-26-01, Amendment 39-21356 (85 FR 82299, December 18, 2020) (AD 2020-26-01). AD 2020-26-01 applied to all Airbus SAS Model A318-111, -112, -121, and -122 airplanes; Model A319-111, -112, -113, -114, -115, -131, -132, and -133 airplanes; and Model A320-211, -212, -214, -216, -231, -232, and -233 airplanes. The NPRM published in the Federal Register on December 27, 2021 (86 FR 73197). The NPRM was prompted by reports of cracks found on MLG sliding tubes that may have been subject to improperly performed magnetic particle inspection. The NPRM proposed to require repetitive general visual inspections of the affected MLG sliding tubes (both retained affected parts and additional affected parts) for cracks, and replacement if necessary, as specified in EASA AD 2021-0175. The NPRM also proposed to add airplanes to the applicability.

The FAA is issuing this AD to address cracks on the MLG sliding tubes, which could cause MLG sliding tube fracture, and could result in the MLG collapsing, damage to the airplane, and injury to occupants. See the MCAI for additional background information.

Discussion of Final Airworthiness Directive

Comments

The FAA received a comment from the Air Line Pilots Association, International (ALPA), who supported the NPRM without change.

The FAA also received a comment from Delta Air Lines (DAL). The following presents the comment received on the NPRM and the FAA's response.

Request for Clarification of Inspection Requirements

DAL requested clarification of the language specified in paragraph (6) of EASA AD 2021-0175 that “following installation, the part is inspected as required by this [EASA] AD.” DAL stated that more than one interpretation is possible, but it presumed the intent to be that an affected part can only be installed if it is inspected within the compliance time specified in paragraph (1) of EASA AD 2021-0175 (rather than requiring an inspection immediately after installing an affected part on-wing).

The FAA agrees to clarify the referenced quote. The statement “following installation, the part is inspected as required by this [EASA] AD” does not mean an inspection is required before further flight after installing an affected part. Instead, it means that the part must meet the inspection requirements of paragraph (1) of EASA AD 2021-0175 at the applicable compliance times specified in paragraph (1) of EASA AD 2021-0175.

Conclusion

The FAA reviewed the relevant data, considered the comments received, and determined that air safety requires adopting this AD as proposed. Except for minor editorial changes, this AD is adopted as proposed in the NPRM. None of the changes will increase the economic burden on any operator. Accordingly, the FAA is issuing this AD to address the unsafe condition on these products.

Related Service Information Under 1 CFR Part 51

EASA AD 2021-0175 describes procedures for repetitive general visual inspections of the MLG sliding tubes for cracks, and replacement if necessary. EASA AD 2021-0175 also describes terminating actions for the repetitive inspections of affected MLG sliding tubes by either overhauling an affected MLG sliding tube or replacing an affected MLG sliding tube with an MLG sliding tube that is not affected.

This material is reasonably available because the interested parties have access to it through their normal course of business or by the means identified in the ADDRESSES section.

Costs of Compliance

The FAA estimates that this AD affects 1,524 airplanes of U.S. registry. The FAA estimates the following costs to comply with this AD:

Estimated Costs for Required Actions
Action | Labor cost | Parts cost | Cost per product | Cost on U.S. operators
Retained actions from AD 2020-26-01 | 2 work-hours × $85 per hour = $170 | $0 | $170 | $259,080
New proposed actions | 2 work-hours × $85 per hour = $170 | 0 | 170 | 259,080

The FAA estimates the following costs to do any necessary on-condition actions that would be required based on the results of any required actions. The FAA has no way of determining the number of aircraft that might need these on-condition actions:

Estimated Costs of On-Condition Actions
Labor cost | Parts cost | Cost per product
19 work-hours × $85 per hour = $1,615 | $185 | $1,800

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-26-01, Amendment 39-21356 (85 FR 82299, December 18, 2020); and

b. Adding the following new AD:

2022-12-05 Airbus SAS: Amendment 39-22077; Docket No. FAA-2021-1075; Project Identifier MCAI-2021-00856-T.

(a) Effective Date

This airworthiness directive (AD) is effective September 2, 2022.

(b) Affected ADs

This AD replaces AD 2020-26-01, Amendment 39-21356 (85 FR 82299, December 18, 2020) (AD 2020-26-01).

(c) Applicability

This AD applies to all Airbus SAS airplanes identified in paragraphs (c)(1) through (4) of this AD, certificated in any category.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 32, Landing gear.

(e) Reason

This AD was prompted by reports of cracks found on main landing gear (MLG) sliding tubes that may have been subject to improperly performed magnetic particle inspection. The FAA is issuing this AD to address cracks on the MLG sliding tubes, which could cause MLG sliding tube fracture, and could result in the MLG collapsing, damage to the airplane, and injury to occupants.

(f) Compliance

Comply with this AD within the compliance times specified, unless already done.

(g) Requirements

Except as specified in paragraph (h) of this AD: Comply with all required actions and compliance times specified in, and in accordance with, European Union Aviation Safety Agency (EASA) AD 2021-0175, dated July 22, 2021; corrected July 23, 2021 (EASA AD 2021-0175).

(h) Exceptions to EASA AD 2021-0175

(1) Where EASA AD 2021-0175 refers to its effective date, this AD requires using the effective date of this AD.

(2) Where EASA AD 2021-0175 refers to July 10, 2018 (the effective date of EASA AD 2018-0136, dated June 26, 2018), this AD requires using April 9, 2019 (the effective date of AD 2019-03-18, Amendment 39-19570 (84 FR 7804, March 5, 2019)).

(3) Where EASA AD 2021-0175 refers to December 2, 2020 (the effective date of EASA AD 2020-0258, dated November 18, 2020; corrected November 19. 2020), this AD requires using January 4, 2021 (the effective date of AD 2020-26-01).

(4) Where paragraph (1) of EASA AD 2021-0175 specifies compliance times to do the initial inspection, for this AD, the initial inspection must be done within the applicable compliance time specified in paragraph (1) of EASA AD 2021-0175, or within 30 days after the effective date of this AD, whichever occurs later.

(5) The “Remarks” section of EASA AD 2021-0175 does not apply to this AD.

(i) No Reporting Requirement

Although the service information referenced in EASA AD 2021-0175 specifies to submit certain information to the manufacturer, this AD does not include that requirement.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Vladimir Ulyanov, Aerospace Engineer, Large Aircraft Section, FAA, International Validation Branch, 2200 South 216th St., Des Moines, WA 98198; telephone and fax 206-231-3229; email vladimir.ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0175, dated July 22, 2021; corrected July 23, 2021.

(ii) [Reserved]

(3) For EASA AD 2021-0175, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on June 4, 2022.
Gaetano A. Sciortino,
Deputy Director for Strategic Initiatives, Compliance & Airworthiness Division, Aircraft Certification Service.

[FR Doc. 2022-16101 Filed 7-28-22; 8:45 am]

BILLING CODE 4910-13-P